DEPARTMENT OF TRANSPORTATION

Coast Guard

33 CFR Part 175

[USCG-2001-10530]

Servicing of Inflatable Liferafts Carried on Recreational Vessels

AGENCY: Coast Guard, DOT.

ACTION: Request for comments.

SUMMARY: The National Boating Safety Advisory Council (NBSAC) recommended that the Coast Guard require that any inflatable liferaft carried on a recreational vessel must be serviced according to the manufacturer's requirements and at a servicing facility approved by the manufacturer. The Coast Guard is requesting comments from the boating community about the extent to which recreational vessels carry inflatable liferafts, how many vessel owners have their liferafts serviced and how often owners use manufacturer-approved servicing facilities. Your comments will help us evaluate the NBSAC recommendation.

DATES: Comments and related material must reach the Docket Management Facility on or before March 11, 2002.

ADDRESSES: To make sure your comments and related material are not entered more than once in the docket, please submit them by only one of the following means:

(1) By mail to the Docket Management Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this notice, contact Carlton Perry, Project Manager, Office of Boating Safety, telephone 202-267-0979, e-mail cperry@comdt.uscg.mil. If you have questions on viewing or submitting material to the docket, call Dorothy Beard, Chief, Dockets, Department of Transportation, telephone 202-366-5149.

You may obtain a copy of this notice by calling the U.S. Coast Guard Infoline at 1-800-368-5647 or read it on the Internet at the Web Site for the Office of Boating Safety at http://www.uscgboating.org or at http://dms.dot.gov.

SUPPLEMENTARY INFORMATION:

Background

Currently, no federal regulation requires that recreational vessels carry inflatable liferafts; however, inflatable liferafts are becoming popular as “last resort” safety equipment on board recreational vessels. Manufacturers advise purchasers to service these devices and typically list servicing facilities approved by the manufacturers.

At an October 2000 meeting of the National Boating Safety Advisory Council (NBSAC), the Coast Guard briefed NBSAC on the Coast Guard's approval of inflatable liferafts primarily used on commercial vessels that are required to carry liferafts. Commercial vessels are required to service their liferafts annually at facilities approved by the Coast Guard (46 CFR 160.151-35 to 57). The Coast Guard initially and periodically inspects these facilities to ensure that they are clean, have the proper equipment, and have properly trained technicians. However, recreational vessels are not required to carry inflatable liferafts and there are no approval requirements for any inflatable liferafts they may use.

NBSAC passed a resolution requesting that the Coast Guard develop regulations to require that any recreational liferaft be serviced according to its manufacturer's requirements at a servicing facility approved by the Coast Guard or manufacturer.

By law, the Coast Guard Office of Boating Safety is required to consult with the NBSAC in prescribing regulations and regarding other major boating safety matters. NBSAC is made up of 21 members: 7 from the boating industry, 7 who are State boating officials, and 7 who represent national boating organizations or the general public.

Questions

To assist us in considering NBSAC's resolution, we ask for your comments to the following questions:

1. What data or studies are available indicating the appropriate procedures and frequency of servicing of inflatable liferafts carried on recreational vessels?

2. What would the economic and other impacts on owners of inflatable liferafts be if the Coast Guard were to require those liferafts be serviced according to the manufacturer's schedule at a manufacturer-approved facility?

3. Would a requirement to follow the manufacturer's servicing schedule at a manufacturer-approved facility place an inappropriate and inconsistent burden on owners of inflatable liferafts carried on recreational vessels? Why or why not?

4. Would the cost of a requirement to periodically service inflatable liferafts on recreational boats discourage boaters from voluntarily carrying liferafts? What would the effect on the overall safety of the recreational boater be?

5. The Coast Guard is mindful of the potential adverse impacts on small business entities. The term “small entities” comprises small businesses, not-for-profit organizations that are independently owned and operated and are not dominant in their fields, and governmental jurisdictions with populations of less than 50,000. How many small entities are engaged in the carriage of inflatable liferafts on recreational vessels?

6. Which companies are currently manufacturing inflatable liferafts for use on recreational vessels?

7. Since manufacturers' recommendations vary, at what intervals should inflatable liferafts be serviced?

8. Which facilities are currently approved by manufacturers for servicing inflatable liferafts carried on recreational vessels?

9. Are there issues we should consider specific to foreign manufactured inflatable liferafts, schedules of servicing and servicing facilities approved for their products?

10. What other information should we consider?

Request for Comments

We encourage you to participate in this request for comments by submitting comments and related material and answering the above questions. If you do so, please include your name and address, identify the docket number for this notice (USCG-2001-10530), indicate by number each question you are answering, and give the reason for each comment. You may submit your comments and material by mail, hand-delivery, fax, or electronic means to the Docket Management Facility at the address under ADDRESSES; but please submit your comments and material by only one means. If you submit them by mail or hand-delivery, submit them in an unbound format, no larger than 81/2 by 11 inches, suitable for copying and electronic filing. If you submit them by mail and would like to know they reached the Facility, please enclose a stamped, self-addressed postcard or envelope. We will consider all comments and material received during the comment period. Your comments will help us to determine whether to initiate a rulemaking in response to the NBSAC resolution.

Public Meeting

We do not now plan to hold a public meeting. But you may submit a request for one to the Docket Management Facility at the address under ADDRESSES explaining why one would be beneficial. If we determine that one would aid the consideration of the NBSAC resolution, we will hold one at a time and place announced by a later notice in the Federal Register.

Dated: August 30, 2001.
Kenneth T. Venuto.
Rear Admiral, U.S. Coast Guard, Director of Operations Policy.

[FR Doc. 01-28118 Filed 11-8-01; 8:45 am]

BILLING CODE 4910-15-U